NUCLEAR REGULATORY COMMISSION

[Docket Nos. 50-445 AND 50-446]

TXU Generation Company, LP; Notice of Withdrawal of Application for Amendment to Facility Operating Licenses

The U.S. Nuclear Regulatory Commission (the Commission) has granted the request of TXU Generation Company, LP (the licensee) to withdraw its December 31, 2003, application for proposed amendment to Facility Operating License No. NPF-87 and Facility Operating License No. NPF-89 for Comanche Peak Steam Electric Station, Units 1 and 2, respectively, located in Somervell County, Texas.

The proposed amendment would have revised the facility technical specifications pertaining to extending the allowable Completion Times for the Required Actions associated with restoration of an inoperable Diesel Generator (DG) and associated changes.

The Commission had previously issued a Notice of Consideration of Issuance of Amendment published in the Federal Register on February 3, 2004 (69 FR 5209). However, by letter dated March 17, 2005, the licensee withdrew the proposed change.

For further details with respect to this action, see the application for amendment dated December 31, 2003, and the licensee's letter dated March 17, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated at Rockville, Maryland, this 20th day of April 2005.
For the Nuclear Regulatory Commission.
David H. Jaffe,
Senior Project Manager, Section 1 Project Directorate IV, Division of Licensing Project Management, Office of Nuclear Reactor Regulation.

[FR Doc. E5-2036 Filed 4-27-05; 8:45 am]

BILLING CODE 7590-01-P